DEPARTMENT OF JUSTICE

Parole Commission

[5 U.S.C. Section 552b]

Public Announcement; Pursuant To The Government In the Sunshine Act (Public Law 94-409)

AGENCY HOLDING MEETING: Department of Justice, United States Parole Commission.

DATE AND TIME: 10:30 a.m., Thursday, March 14, 2002.

PLACE: U.S. Parole Commission, 5550 Friendship Boulevard, 4th Floor, Chevy Chase, Maryland 20815.

STATUS: Closed meeting.

MATTERS CONSIDERED: The following matter will be considered during the closed portion of the Commission's Business Meeting:

Appeals to the Commission involving approximately four cases decided by the National Commissioners pursuant to a reference under 28 CFR 2.27. These cases were originally heard by an examiner panel wherein inmates of Federal prisons have applied for parole and are contesting revocation of parole or mandatory release.

AGENCY CONTACT: Sam Robertson, Case Operations, United States Parole Commission, (301) 492-5962.

Dated: March 7, 2002.
Michael Stover,
Deputy General Counsel, U.S. Parole Commission.

[FR Doc. 02-5960 Filed 3-8-02; 11:32 am]

BILLING CODE 4410-31-M